DEPARTMENT OF THE INTERIOR

Fish and Wildlife Service

[FWS-R4-R-2008-N0195; 40136-1265-0000-S3]

Waccamaw National Wildlife Refuge, Georgetown, Horry, and Marion Counties, SC

AGENCY: Fish and Wildlife Service, Interior.

ACTION: Notice of availability: final comprehensive conservation plan and finding of no significant impact.

SUMMARY: We, the Fish and Wildlife Service (Service), announce the availability of our final comprehensive conservation plan (CCP) and finding of no significant impact (FONSI) for Waccamaw National Wildlife Refuge. In the final CCP, we describe how we will manage this refuge for the next 15 years.

ADDRESSES: A copy of the CCP may be obtained by writing to: Waccamaw National Wildlife Refuge, 1601 North Fraser Street, Georgetown, SC 29440. The plan may also be accessed and downloaded from the Service's Web site: http://southeast.fws.gov/planning.

FOR FURTHER INFORMATION CONTACT: Mr. Craig Sasser, Refuge Manager, Waccamaw National Wildlife Refuge; Telephone: 843/527-8069; Fax: 843/527-8494.

SUPPLEMENTARY INFORMATION:

Introduction

With this notice, we finalize the CCP process for Waccamaw National Wildlife Refuge. We started this process through a notice in the Federal Register on March 29, 2006 (71 FR 15757). For more about the process, see that notice.

Waccamaw National Wildlife Refuge is currently 18,251 acres in size (within an approved acquisition boundary of 54,000 acres), and was established in 1997 for the following purposes: (1) To protect and manage diverse habitat components within an important coastal river ecosystem for the benefit of threatened and endangered species, freshwater and anadromous fish, migratory birds, and forest wildlife, including a wide array of plants and animals associated with bottomland hardwood habitats; and (2) to provide compatible wildlife-dependent recreational activities, including hunting, fishing, wildlife observation, wildlife photography, and environmental education and interpretation.

The refuge acquisition boundary includes large sections of the Waccamaw and Great Pee Dee Rivers and a small section of the Little Pee Dee River. The wetland diversity of this refuge is what distinguishes it from most others found along the east coast. Wetland habitats range from historic, broken, and actively managed tidal rice fields, to black water and alluvial floodplain forested wetlands. These tidal freshwater wetlands are some of the most diverse freshwater wetland systems found in North America and they offer many important habitats for migratory birds, fish, and resident wildlife.

Over 400 species of animals are supported by the variety of habitats in the refuge acquisition area, including several endangered species. Birds, such as the swallow-tailed kite, osprey, wood stork, white ibis, prothonotary warbler, and many species of waterfowl, can be observed on a seasonal basis, while mammals, such as the American black bear, frequent the refuge's forests year-round. Notably, the refuge acquisition area supports the highest density of nesting swallow-tailed kites in South Carolina and is the northernmost documented nesting area for this raptor within its range.

Additionally, the refuge's wetlands play a critical role in the filtration and storm water retention of the primary drinking water resource for the greater Grand Strand region.

Popular recreation uses of the refuge include hunting and both recreational and commercial fishing. Wildlife viewing and photography programs, as well as environmental education and interpretation, are also being developed on the refuge, especially in conjunction with a visitor center now under construction.

We announce our decision and the availability of the final CCP and FONSI for Waccamaw National Wildlife Refuge in accordance with the National Environmental Policy Act (NEPA) (40 CFR 1506.6(b)) requirements. We completed a thorough analysis of impacts on the human environment, which we included in the draft comprehensive conservation plan and environmental assessment (Draft CCP/EA).

The CCP will guide us in managing and administering Waccamaw National Wildlife Refuge for the next 15 years. Alternative C, as we described in the final CCP, is the foundation for the CCP.

The compatibility determinations for (1) Hunting; (2) fishing; (3) wildlife observation and photography; (4) environmental education and interpretation; (5) bicycling; (6) commercial services; (7) commercial fishing; (8) research; (9) camping; (10) rights-of-way; and (11) forest management—commercial timber harvest are also available within the final CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

Approximately 200 copies of the Draft CCP/EA were made available for a 30-day public review period as announced in the Federal Register on February 13, 2008 (73 FR 8343). Ninety-four written comments were received from private citizens and a number of non-governmental organizations, including American Rivers, Baruch Marine Field Laboratory (University of South Carolina), Charleston Audubon, Coastal Conservation League, Coastal Expeditions, Five Rivers Coalition, Georgetown County League of Women Voters, Grand Strand Surfrider Foundation, Historic Charleston Foundation, Morgan Park Committee, National Rifle Association of America, The Nature Conservancy, Palmetto Conservation Foundation, Republican Women of Myrtle Beach, SEWEE Association, Swallow-tailed Kite Conservation Alliance, Waccamaw Watershed Academy (Coastal Carolina University), Waccamaw Audubon Society, and Winyah Rivers Foundation. Almost all commenters supported the Service's proposed alternative, Alternative D.

Selected Alternative

After considering the comments we received, we have selected Alternative D for implementation. This alternative is judged to be the most effective management action for meeting the purposes of the refuge by optimizing habitat management and visitor services throughout the refuge. The Service would aim to improve wintering waterfowl habitat on approximately 600 acres on Unit 1 by restoring hydrology. We would also continue to conduct informal surveys on swallow-tailed kites and Swainson's warblers on an occasional basis. Management of black bears would be stepped up, and would include annual surveys and enlisting public participation in gathering, recording, and compiling sightings.

Management of threatened and endangered species would involve restoring the hydrology on Unit 1 to enhance the existing wood stork rookery, restoring wood stork feeding areas on Unit 3, and red-cockaded woodpecker nesting and foraging habitat on Unit 2. Recreational use of the refuge would continue. This alternative would expand on hunting opportunities for deer and hog by considering a hunt by mobility-impaired individuals. It would potentially include a youth waterfowl hunt on refuge management lands. Over the lifetime of the CCP, this alternative would call for reducing deer herd density to improve herd health and to improve habitat quality for other species.

This alternative would identify the 4,600-acre Bull Island as a proposed Wilderness Study Area. The Service would maintain its wilderness character, and within 10 years of approval of the CCP, would prepare a wilderness study report and additional NEPA documentation on whether Bull Island should be formally designated by Congress as a unit of the National Wilderness Preservation System. The refuge would prepare and implement a Visitor Services' Plan and expand most wildlife-dependent public uses in a number of ways.

Authority: This notice is published under the authority of the National Wildlife Refuge System Improvement Act of 1997, Public Law 105-57.

Dated: July 22, 2008.
Cynthia K. Dohner,
Acting Regional Director.

Editorial Note: This document was received in the Office of the Federal Register on October 24, 2008.

[FR Doc. E8-25840 Filed 10-28-08; 8:45 am]

BILLING CODE 4310-55-P